DEPARTMENT OF COMMERCE

Foreign-Trade Zones Board

[B-29-2021]

Foreign-Trade Zone (FTZ) 107—Des Moines, Iowa; Authorization of Production Activity; Lely North America, Inc. (Automated Milking and Feeding Equipment); Pella, Iowa

On April 14, 2021, Lely North America, Inc. (Lely) submitted a notification of proposed production activity to the FTZ Board for its facility within Subzone 107E, in Pella, Iowa.

The notification was processed in accordance with the regulations of the FTZ Board (15 CFR part 400), including notice in the Federal Register inviting public comment (86 FR 21686, April 23, 2021). On August 12, 2021, the applicant was notified of the FTZ Board's decision that no further review of the activity is warranted at this time. The production activity described in the notification was authorized, subject to the FTZ Act and the FTZ Board's regulations, including Section 400.14.

Dated: August 12, 2021.
Andrew McGilvray,
Executive Secretary.

[FR Doc. 2021-17691 Filed 8-17-21; 8:45 am]

BILLING CODE 3510-DS-P